ENVIRONMENTAL PROTECTION AGENCY

40 CFR Part 300

[EPA-HQ-SFUND-1989-0007; FRL-9980-71—Region 5]

National Oil and Hazardous Substances Pollution Contingency Plan; National Priorities List: Partial Deletion of the Naval Industrial Reserve Ordnance Plant Superfund Site

AGENCY: Environmental Protection Agency (EPA).

ACTION: Direct final rule.

SUMMARY: The Environmental Protection Agency (EPA) Region 5 is publishing a direct final Notice of Deletion of Operable Unit 3 (OU3) of the Naval Industrial Reserve Ordnance Plant (NIROP) Superfund Site (Site), located in Fridley, Minnesota, from the National Priorities List (NPL). The NPL, promulgated pursuant to section 105 of the Comprehensive Environmental Response, Compensation, and Liability Act (CERCLA) of 1980, as amended, is an appendix of the National Oil and Hazardous Substances Pollution Contingency Plan (NCP). This direct final partial deletion is being published by EPA with the concurrence of the State of Minnesota, through the Minnesota Pollution Control Agency (MPCA), because EPA has determined that all appropriate response actions under CERCLA at OU3, other than operation, maintenance, and five-year reviews, have been completed. However, this partial deletion does not preclude future actions under Superfund.

DATES: This direct final partial deletion is effective September 17, 2018 unless EPA receives adverse comments by August 16, 2018. If adverse comments are received, EPA will publish a timely withdrawal of the direct final partial deletion in the Federal Register informing the public that the partial deletion will not take effect.

ADDRESSES: Submit your comments, identified by Docket ID No. EPA-HQ-SFUND-1989-0007, by one of the following methods: http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Email: cano.randolph@epa.gov.

Mail: Randolph Cano, NPL Deletion Coordinator, U.S. Environmental Protection Agency Region 5 (SR-6J), 77 West Jackson Boulevard, Chicago, IL 60604, (312) 886-6036.

Hand deliver: Superfund Records Center, U.S. Environmental Protection Agency Region 5, 77 West Jackson Boulevard, 7th Floor South, Chicago, IL 60604, (312)886-0900. Such deliveries are only accepted during the Docket's normal hours of operation, and special arrangements should be made for deliveries of boxed information. The normal business hours are Monday through Friday, 8 a.m. to 4 p.m., excluding Federal holidays.

Instructions: Direct your comments to Docket ID no. EPA-HQ-SFUND-1989-0007. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in hard copy. Publicly available docket materials are available either electronically in http://www.regulations.gov or in hard copy at:

U.S. Environmental Protection Agency, Region 5, Superfund Records Center, 77 West Jackson Boulevard, 7th Floor South, Chicago, IL 60604, Phone: (312) 886-0900, Hours: Monday through Friday, 8 a.m. to 4 p.m., excluding Federal holidays.

Mississippi Library, 410 Mississippi St. NE, Fridley, MN 55432, Phone: (763) 324-1560, Hours: Monday and Wednesday, 12:00 p.m. to 8:00 p.m., Tuesday and Thursday, 10:00 a.m. to 6:00 p.m., Friday, 12:00 p.m. to 6:00 p.m. and Saturday 10:00 a.m. to 5:00 p.m.

The Navy has an online repository for the NIROP Site at the link below. Please click on the Administrative Records link to see all the documents. http://www.navfac.navy.mil/products_and_services/ev/products_and_services/env_restoration/administrative_records.html?p_instln_id=FRIDLEY_NIROP.

The Minnesota Pollution Control Agency has an information repository for the NIROP Site at their offices: 520 Lafayette Road, St. Paul, MN 55155. Call (651) 296-6300 or toll-free at (800) 657-3864 to schedule an appointment.

FOR FURTHER INFORMATION CONTACT: Randolph Cano, NPL Deletion Coordinator, U.S. Environmental Protection Agency Region 5 (SR-6J), 77 West Jackson Boulevard, Chicago, IL 60604, (312)886-6036, or via email at cano.randolph@epa.gov.

SUPPLEMENTARY INFORMATION:

Table of Contents

I. Introduction

II. NPL Deletion Criteria

III. Partial Deletion Procedures

IV. Basis for Site Partial Deletion

V. Partial Deletion Action

I. Introduction

EPA Region 5 is publishing this direct final Notice of Partial Deletion for the Naval Industrial Reserve Ordnance Plant (NIROP) Superfund Site (Site) from the National Priorities List (NPL). This partial deletion pertains to OU3, which includes all the unsaturated soils underlying the former Plating Shop Area. The NPL constitutes Appendix B of 40 CFR part 300, which is the National Oil and Hazardous Substances Pollution Contingency Plan (NCP), which EPA promulgated pursuant to section 105 of the Comprehensive Environmental Response, Compensation, and Liability Act (CERCLA) of 1980, as amended. EPA maintains the NPL as the list of sites that appear to present a significant risk to public health, welfare, or the environment. Sites on the NPL may be the subject of remedial actions financed by the Hazardous Substance Superfund (Fund). This partial deletion of the NIROP Site is proposed in accordance with 40 CFR 300.425(e) and is consistent with the Notice of Policy Change: Partial Deletion of Sites Listed on the National Priorities List. 60 FR 55466 (Nov. 1, 1995). As described in 300.425(e)(3) of the NCP, a portion of a site deleted from the NPL remains eligible for Fund-financed remedial action if future conditions warrant such actions.

Section II of this document explains the criteria for deleting sites from the NPL. Section III discusses procedures that EPA is using for this action. Section IV discusses OU3 of the NIROP Site and demonstrates how OU3 meets the deletion criteria. Section V discusses EPA's action to partially delete OU3 of the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews (FYRs) to ensure the continued protectiveness of remedial actions where hazardous substances, pollutants, or contaminants remain at a site above levels that allow for unlimited use and unrestricted exposure. EPA conducts such FYRs even if a site is deleted from the NPL. EPA may initiate further action to ensure continued protectiveness at a deleted site if new information becomes available that indicates it is appropriate. Whenever there is a significant release from a site deleted from the NPL, the deleted site may be restored to the NPL without application of the hazard ranking system.

III. Partial Deletion Procedures

The following procedures apply to the deletion of OU3 of the NIROP Site:

(1) EPA has consulted with the State of Minnesota prior to developing this direct final Notice of Partial Deletion and the Notification of Intent for Partial Deletion published in the “Proposed Rules” section of the Federal Register.

(2) EPA has provided the State thirty (30) working days for review of this action and the parallel Notification of Intent for Partial Deletion prior to their publication today, and the State, through the Minnesota Pollution Control Agency (MPCA), has concurred on the partial deletion of the Site from the NPL.

(3) Concurrent with the publication of this direct final Notice of Partial Deletion, a notice of the availability of the parallel Notification of Intent for Partial Deletion is being published in a major local newspaper, the Sun Focus, located in Fridley, Minnesota. The newspaper notice announces the 30-day public comment period concerning the Notification of Intent for Partial Deletion of the Site from the NPL.

(4) EPA placed copies of documents supporting the partial deletion in the deletion docket and made these items available for public inspection and copying at the Site information repositories identified in the Addresses Section of this rule.

(5) If adverse comments are received within the 30-day public comment period on this partial deletion action, EPA will publish a timely notice of withdrawal of this direct final Notice of Partial Deletion before its effective date and will prepare a response to comments and continue with the deletion process on the basis of the Notice of Intent for Partial Deletion and the comments already received.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for further response actions, should future conditions warrant such actions.

IV. Basis for Site Partial Deletion

The following information provides EPA's rationale for deleting OU3 of the NIROP Site from the NPL. EPA believes it is appropriate to delete OU3 of the NIROP Site because all appropriate response actions under CERCLA, other than operation, maintenance, and FYRs, have been completed at OU3 and it is ready for redevelopment as a commercial and/or industrial property.

Site Background and History

The NIROP Site (CERCLIS ID MN3170022914) is located in the northern portion of the Minneapolis/St. Paul Metropolitan Area in an industrial/commercial area at 4800 E. River Road within the limits of Fridley, Anoka County, Minnesota. The NIROP Site is not adjacent to any residential areas and is not located in an environmentally sensitive area, nor near any known environmentally sensitive areas.

The Site is approximately 82.6 acres, most of which are covered with buildings or pavement. The U.S. Navy and/or its contractors produced advanced weapons systems at the facility beginning in 1940. In 2004, the U.S. Navy sold the property to FMC (now BAE). BAE then sold the property to ELT Minneapolis, LLC. ELT Minneapolis owned the former NIROP property and leased the space to United Defense LP until 2013. In 2013, ELT sold the property to Fridley Land, LLC, the current owner. Fridley Land LLC is in the process of redeveloping the property in phases for commercial and/or industrial use.

The formerly government-owned portion of the facility constitutes what is now the NIROP Site. See the site map in NIROP Map Delineating Operable Units, Docket Document ID No. EPA-HQ-SFUND-1989-0007-0075 in the Deletion Docket for OU3. (Note: portions of the main facility building depicted in the Site Map have since been demolished for redevelopment.) The Site Map also shows that the southern portion of the original facility is not part of the NIROP Site.

The Navy and/or its contractors disposed paint sludges and chlorinated solvents generated from ordnance manufacturing processes in pits and trenches in the undeveloped area of the NIROP Site immediately north of the main facility building in the early 1970s. This area is called the North 40 area. MPCA received information concerning the historical waste disposal practices at NIROP and about the contaminant sources in the North 40 area and beneath the NIROP building in 1980.

Trichloroethylene (TCE) was discovered in on-site groundwater wells and in the City of Minneapolis's drinking water treatment plant intake pipe, located in the Mississippi River less than 1 mile downstream from the Site, in 1981. The Navy conducted investigations in 1983 which identified pits and trenches in the North 40 area of the NIROP Site where drummed wastes were deposited. The Navy excavated approximately 1,200 cubic yards of contaminated soil and 43 (55-gallon) drums and disposed them off-site from November 1983 to March 1984.

EPA proposed the NIROP Site to the NPL on July 14, 1989 (54 FR 29820). EPA finalized the NIROP Site on the NPL on November 21, 1989 (54 FR 48184).

EPA, MPCA and the Navy signed a Federal Facilities Agreement (FFA) in March 1991. Per the FFA, one of the purposes of that agreement was to ”Identify alternatives for Remedial Action for Operable Units” appropriate for the Site prior to the implementation of Final Remedial Actions for the Site.

EPA divided the NIROP Site into three operable units (OUs) to make it easier to address the contaminant issues at the Site. OU3, the subject of this partial deletion, includes all the unsaturated soils underlying the former Plating Shop Area of the Site. The extent of OU3 is detailed in the site map in NIROP Map Delineating Operable Units, Docket Document ID No. EPA-HQ-SFUND-1989-0007-0075 in the Deletion Docket for OU3.

The current scope of OU3 is provided in EPA's August 12, 2013 Memorandum to File that restructured the OUs at the Site. OU3 initially included: (1) All saturated and unsaturated soil underneath the main NIROP manufacturing building, excluding the extreme southern portion of the building, and (2) all saturated soil under and outside the main NIROP manufacturing building, within the legal boundaries of the Site.

EPA's 2013 Memorandum limited the scope of OU3 to unsaturated soil under the former Plating Shop Area. The saturated soils that were initially part of OU3 are now included with OU1. The remaining unsaturated soil under the main NIROP building outside the former Plating Shop Area that were part of OU3 are being addressed as part of OU2.

OU1, which includes the contaminated groundwater within and originating from the NIROP Site, and now saturated soils, will remain on the NPL and is not being considered for deletion as part of this action. EPA deleted OU2, which includes all the unsaturated soils within the legal boundaries of the NIROP Site excluding the unsaturated soils under the former Plating Shop Area, from the NPL effective August 29, 2014 (79 FR 36658, June 30, 2014).

Remedial Investigation and Feasibility Study (RI/FS)

The groundwater in the unconsolidated aquifer beneath the Site is contaminated with volatile organic compounds (VOCs), including: TCE, 1,1,1-trichloroethane (TCA), 1,2-dichloroethylene (DCE), tetrachloroethylene (PERC), 1,1-dichloroethane, toluene, xylene, and ethylbenzene. Some or all of the contaminants identified are hazardous substances as defined in section 104(14) of CERCLA, 42 U.S.C. 9601(14), and 40 CFR 302.4. TCE was found more frequently and at higher concentrations than any other VOC, and is considered to be the best indicator chemical for the Site.

In April 1995, the Navy was renovating the East Plating Shop (now called the former Plating Shop Area or OU3) inside the main manufacturing building, to accommodate an electrical assembly facility. During the renovation, when all of the tanks were removed and prior to the floor repairs being made, the Navy collected soil and groundwater samples to determine whether past plating activities had impacted soil and groundwater beneath the building.

The Navy detected TCE, TCA, PERC and DCE at elevated levels in soil and groundwater. The Navy also found elevated metals concentrations, including chromium, in the vicinity of a former sump. (Note: With the ongoing redevelopment at the Site, OU3 is no longer inside the main manufacturing building. The portion of the building that housed OU3 has since been demolished.)

The Navy detected the highest concentrations of TCE and PERC in the 1995 sampling event in surface (0 to 4 feet below ground surface [bgs]), shallow subsurface (4 to 12 feet bgs), and deep subsurface (>12 feet bgs) soil samples collected from the East Plating Shop. This indicated the possible presence of a “hot spot” of TCE and PERC in this area and the likelihood that the East Plating Shop was the source area for these VOCs and chromium.

The 2002 Baseline Human Health Risk Assessment (HHRA) identified an unacceptable potential risk/hazard in OU3 for exposure to soil in the East Plating Shop area under the major-infrequent construction worker exposure scenario. The major-infrequent construction worker exposure scenario assumed construction workers would have a short-term exposure to the maximum concentration of soil contaminants detected from 0-12 feet bgs in the East Plating Shop area during major modifications to the building slab and foundations. The HHRA did not identify any unacceptable risks or hazards to exposure to OU3 soil under a commercial/industrial scenario.

The cancer risk calculated for the major-infrequent construction worker in the 2002 HHRA was 2.1 × 10⁻⁶. This risk is within EPA's acceptable risk range of 1 × 10⁻⁴ to 1 × 10⁻⁶, but exceeds MPCA's acceptable subchronic incremental cancer risk of 1 × 10⁻⁶.

The noncancer risks calculated for the major-infrequent construction worker in OU3 in the 2002 HHRA was a hazard quotient (HQ) of 1.35 for chromium, and a total hazard index (HI) of 2.9 for all chemicals. These levels exceed EPA's acceptable noncancer HQ of 1 for individual contaminants and a HI of 1 for multiple chemicals, and MCPA's acceptable subchronic HQ and HI levels of 1 for individual and multiple chemicals.

Chromium is most commonly present in its less-toxic trivalent form because environmental conditions typically favor the reduction of the more-toxic hexavalent chromium to its less-toxic trivalent state. The 2002 HHRA, however, conservatively assumed that 100 percent of the chromium detected in the East Plating Shop area was in the hexavalent form, due to the absence of site-specific speciated data and considering historic Site use. Based on this assumption of 100 percent hexavalent chromium, the potential risks to OU3 receptors from exposure to chromium in the 2002 HHRA were likely overestimated.

Several years after the OU3 remedy was selected and implemented, in 2015, the Navy conducted additional soil sampling in OU3 for total and hexavalent chromium analysis. The analytical results show that at most, the more toxic hexavalent chromium constitutes only 7 percent of the total OU3 chromium measured. The 2015 total and hexavalent chromium concentrations in soil were both below the MPCA soil reference values for industrial use. The Navy used these speciated chromium results to complete a more accurate, focused risk assessment for OU3 chromium in 2016.

In 2016, the Navy also excavated soils beneath the East Plating Shop to remove a potential source of TCE to the groundwater. The excavated soil was in the same area as the elevated chromium concentrations evaluated in the 2002 HHRA. This soil removal aided in reducing any potential health risks associated with chromium.

The Navy completed the Focused Human Health Risk Assessment (FHHRA) for the East Plating Shop area in 2016. The Navy did not include in the data set the soil samples collected in 2015 in the areas subsequently excavated as part of the 2016 East Plating Shop excavation because they were no longer present or available for contact by human receptors.

The FHHRA determined that, for the major-infrequent construction worker exposure scenario, the potential non-cancer HI for all contaminants of potential concern (COPCs)/target organs combined is 0.16. This HI is below EPA's and MPCA's target HI of 1 and does not exceed MPCA's target HQ level of 0.2 for individual COCs. Therefore, the 2016 FHHRA concluded that there are no unacceptable risks or hazards for major-infrequent construction workers who may be exposed to chemicals in mixed OU3 soil.

Selected Remedy

EPA, MPCA and the Navy issued a Record of Decision (ROD) for OU1 on September 28, 1990, and a ROD for OU2 and OU3 on September 17, 2003. EPA issued a Memorandum to File on September 5, 2013 clarifying the OU definitions at the site. The changes to the structure of the OUs in the 2013 Memorandum to File did not alter any of the selected remedies for the Site. EPA, MPCA and the Navy issued an Explanation of Significant Differences (ESD) documenting a requirement for groundwater institutional controls (ICs) as part of the OU1 remedy on September 26, 2014. EPA, MPCA and the Navy issued an ESD documenting a change in some of the IC requirements for OU3 on July 19, 2017. These documents are available the Docket under Docket Document IDs EPA-HQ-SFUND-1989-0007-0062 (1990 OU1 ROD), EPA-HQ-SFUND-1989-0007-0063 (2003 OU2 and OU3 ROD), EPA-HQ-SFUND-1989-0007-0068 (2013 Memorandum to File), EPA-HQ-SFUND-1989-0007-0069 (2014 OU1 ESD) and EPA-HQ-SFUND-1989-0007-0071 (2017 OU3 ESD).

The original remedial action objectives (RAOs) for OU3 in the 2003 OU2 and OU3 ROD were: (1) To prevent unacceptable risks due to residential or other unrestricted exposures to contaminated soils at the Site, and (2) to prevent unacceptable risks to industrial or construction workers due to exposures to contaminated soils at the Site. The remedial action specified for OU3 soils in the 2003 ROD were engineering controls (ECs) and ICs. The original selected remedy for OU3 was: (1) To restrict the use of the Property to industrial or restricted commercial use, until and unless EPA and MPCA determine that concentrations of hazardous substances in the soils have been reduced to levels that allow for a less restrictive use; (2) to prohibit the disturbance of soils beneath the Designated Restricted Area known as the concrete pit foundations where metal-finishing operations previously occurred at the former Plating Shop within the Main Manufacturing Building without the prior written approval of the EPA and MPCA; and (3) to ensure that the concrete pit floor (approximately 8 to 12 feet below grade floor) where metal finishing operations previously occurred at the former Plating Shop within the Main Manufacturing Building is not removed without the prior written approval of EPA and MPCA. That floor will serve as an EC.

On July 19, 2017, EPA, MPCA and the Navy issued an ESD to remove the requirement for some of the ICs and ECs in the OU3 remedy. The remedy components described in the 2003 OU2 and OU3 ROD were initially required to ensure the long-term protectiveness of the OU3 soil because the OU3 soil contamination remained at the Site above levels that allow for unlimited use and unrestricted exposure.

The 2017 ESD modified the selected remedy for OU3 by removing the second and third remedy components described above from the OU3 remedy. Specifically, there was no longer a need to prohibit the disturbance of soils beneath the former Plating Shop area, nor to ensure that the concrete pit floor at the former Plating Shop remains in place.

EPA, MPCA and the Navy included these two OU3 remedy components in the 2003 ROD based on the conservative assumption in the 2002 HHRA that all of the chromium in OU3 soil was in the more-toxic hexavalent form. Based on the 2015 sampling data, which included speciated chromium results, and the 2016 FHHRA, which found no unacceptable risks or hazards for the major-infrequent construction worker scenario at OU3, the floor in the Plating Shop is no longer needed as an EC and OU3 ICs prohibiting the soils beneath the Plating Shop from being disturbed are no longer necessary.

The IC restricting OU3 to industrial or restricted commercial use in the 2003 OU2 and OU3 ROD [i.e., OU3 remedy component (1) listed above], remains part of the selected remedy for OU3. Implemented ICs at the Site are shown in Figure 2 of the 2017 OU3 ESD in the Docket (Docket Document ID No. EPA-HQ-SFUND-1989-0007-0071).

Response Actions

EPA concurred with the Navy's March 2004 Land Use Control Remedial Design (LUCRD) for OU3 in August 2004. The LUCRD specifies how the OU3 remedy will be implemented, maintained, and enforced if any breach of the remedy should occur. The LUCRD details the Navy's continuing responsibilities with respect to OU3, including: Ensuring that annual on-site physical inspections of OU3 are performed to confirm continued compliance with all Land Use Control (LUC) Performance Objectives; ensuring that annual LUC Compliance Certifications are provided to EPA and MPCA that explain any deficiency, if found; conducting FYRs of the remedy as required by CERCLA and the NCP; notifying EPA and MPCA prior to any planned property conveyance; providing EPA and MPCA the opportunity to review the text of intended deed provisions; and notifying EPA and MPCA if Site activities might interfere with LUC effectiveness.

The LUCs were incorporated into a Quitclaim Deed that was executed by the property owner, the United States and MPCA on June 17, 2004. The Quitclaim Deed acts as an environmental covenant describing the property restrictions. The deed restrictions run with the land such that any subsequent property owner is bound by the same restrictions. The LUCs are to remain in place until EPA and MPCA determine that the concentrations of hazardous substances in the OU3 soils have been reduced to levels that allow for a less restrictive use.

In 2017, EPA, MPCA and the Navy issued an ESD for OU3 removing the requirement for two of the three OU3 LUCs required by the 2003 OU2 and OU3 ROD. The 2017 ESD removed the requirement for the LUCs that required the concrete pit floor in the former Plating Shop to remain in place and for the soils in the former Plating Shop area to remain undisturbed.

Cleanup Levels

There was no cleanup associated with the original remedy for OU3. In 2016, however, soils beneath the East Plating Shop were excavated and replaced with clean soil to address a potential source of TCE to the groundwater as part of OU1. The excavated soil was in the same area as the elevated chromium concentrations evaluated in the 2002 HHRA. The 2016 TCE soil removal also aided in reducing any potential health risk associated with chromium. This further justified the removal of the LUCs for the former Plating Shop floor and for the soil below the floor described in the 2017 OU3 ESD.

Operation and Maintenance

The Navy is the lead agency for the Site and is responsible for conducting routine inspections to ensure that the LUCs are maintained and enforced. The Navy is responsible for reporting the results of the inspections and any breach of the LUCs to the MPCA and EPA.

Five-Year Review

The Navy conducted the last FYR at the Site in October 2013. The 2013 FYR concluded that the remedy at NIROP for OU3 is protective of human health and the environment. The 2013 FYR did not identify any issues or recommendations for OU3. The FYR calls for the Navy to continue long-term stewardship to ensure that the LUC restricting land use at the Site to industrial or restricted commercial use is maintained. The next FYR for the Site is scheduled for October 2018.

Redevelopment

Redevelopment is currently underway to redevelop the NIROP Site into a commercial office/warehouse complex. This redevelopment is consistent with the existing Land Use Designation for the Site. The three parties to the FFA agree that delisting OU3 from the NPL will facilitate the redevelopment effort and allow OU3 to become eligible for State and Federal Brownfields funding. Superfund NPL site property is not eligible for Federal Brownfields funding.

A developer has enrolled the NIROP Site and adjacent land into MPCA's Voluntary Investigation and Cleanup (VIC) program. In conjunction with the redevelopment of the NIROP Site, any additional investigations will be conducted under the oversight and direction of MPCA's VIC program. Under the VIC program, MPCA also requested that all buildings at the NIROP Site have vapor mitigation units installed them and the builder has complied.

Community Involvement

Public participation activities have been satisfied as required in CERCLA section 113(k), 42 U.S.C. 9613(k), and CERCLA section 117, 42 U.S.C. 9617. EPA published a document announcing this proposed Direct Final Partial Deletion and announcing the 30-day public comment period in the Sun Focus concurrent with publishing this partial deletion in the Federal Register. Documents in the deletion docket, which EPA relied on for recommending the partial deletion of the Site from the NPL, are available to the public in the information repositories and at www.regulations.gov. Documents in the docket include maps which identify the specific parcels of land that are included in this proposed Direct Final Partial Deletion (i.e., OU3).

Determination That the Criteria for Partial Deletion Have Been Met

The NCP (40 CFR 300.425(e)) states that portions of a site may be deleted from the NPL when no further response action is appropriate in that area or media. All cleanup actions specified for OU3 of the NIROP Site in the 2003 OU2 and OU3 ROD and the 2017 OU3 ESD have been implemented at the Site. EPA, in consultation with the State of Minnesota, has determined that no further action is warranted to protect human health and the environment at OU3 and that OU3 of the NIROP Site meets the criteria for Partial Deletion from the NPL.

V. Partial Deletion Action

EPA, with concurrence of the State of Minnesota through the MPCA, has determined that all appropriate response actions under CERCLA at OU3, other than operation, maintenance, and five-year reviews, have been completed. Therefore, EPA is deleting OU3 of the NIROP Site from the NPL.

Because EPA considers this action to be noncontroversial and routine, EPA is taking it without prior publication. This action will be effective September 17, 2018 unless EPA receives adverse comments by August 16, 2018. If adverse comments are received within the 30-day public comment period, EPA will publish a timely withdrawal of this direct final notice of partial deletion before the effective date of the partial deletion and it will not take effect. EPA will prepare a response to comments and continue with the deletion process on the basis of the notification of intent to partially delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: June 25, 2018.
Cathy Stepp,
Regional Administrator, Region 5.

[FR Doc. 2018-15240 Filed 7-16-18; 8:45 am]

BILLING CODE 6560-50-P